DEPARTMENT OF ENERGY

Federal Energy Regulatory Commission

[Docket No. CP00-447-000]

Distrigas of Massachusetts LLC; Notice of Intent To Prepare an Environmental Assessment for the Proposed High Pressure Expansion Project and Request for Comments on Environmental Issues

October 4, 2000.

The staff of the Federal Energy Regulatory Commission (FERC or Commission) will prepare an environmental assessment (EA) that will discuss the environmental impacts of the High Pressure Expansion Project involving construction and operation of facilities by Distrigas of Massachusetts LLC (DOMAC) at its existing liquefied natural gas (LNG) storage facility Everett, Massachusetts.¹ These facilities would consist of new vaporization equipment and associated systems to provide regasified LNG to a nonjurisdictional electric power generating plant currently under construction. This EA will be used by the Commission in its decision-making process to determine whether the project is in the public convenience and necessity.

¹ DOMAC's application was filed with the Commission under Section 7 of the Natural Gas Act and part 157 of the Commission's regulations.

Summary of the Proposed Project

The proposed project would allow DOMAC to supply 280,000 million British thermal units per day of regasified LNG to an electric power generating plant. Specifically, DOMAC requests Commission authorization to:

• Install four submerged combustion vaporization units capable of 600,000 thousand cubic feet per day;

• Replace the existing LNG tank pumps with higher capacity pumps;

• Install eight LNG booster pumps;

• Modify the LNG impoundment and vapor control systems; and

• Install various cross-connections, tie-ins, pollution control systems, and odorization equipment.

In addition to the above jurisdictional facilities, Sithe Mystic Development LLC is constructing the New Mystic Station, a 1,550 megawatt natural gas-fired, combined-cycle electric generating power plant at Everett, Massachusetts. The New Mystic Station, approved by the Massachusetts Energy Facilities Siting Board on September 30, 1999, is currently under construction and was 40 percent complete at the time of DOMAC's filing with the Commission. A 24-inch-diameter nonjurisdictional pipeline, approximately 1,200 feet in length, would also be constructed by Boston Gas Company to transport the regasified LNG to the New Mystic Station.

The general location of DOMAC's proposed project facilities is shown on the map attached as appendix 1.² Construction of the proposed facilities would occur completely on DOMAC's existing LNG plant site.

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

The EA Process

The National Environmental Policy Act (NEPA) requires the Commission to take into account the environmental impacts that could result from an action whenever it considers the issuance of a Certificate of Public Convenience and Necessity. NEPA also requires us to discover and address concerns the public may have about proposals. We call this “scoping”.³ The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We,” “us,” and “our” refer to the environmental staff of the Office of Energy Projects (OEP).

The EA will discuss impacts that could occur as a result of the construction and operation of the proposed project under these general headings:

• Geology and soils

• Vegetation and wildlife

• Public safety

• Cultural resources

• Water resources, fisheries, and wetlands

• Endangered and threatened species

• Land use

• Air quality and noise impacts

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send two copies of your letter to: David P. Boergers, Secretary, Federal Energy Regulatory Commission, 888 First St., NE., Room 1A, Washington, DC 20426.

• Label one copy of the comments for the attention of Gas Group 1, PJ-11.1.

• Reference Docket No. CP00-447-000.

• Mail your comments so that they will be received in Washington, DC on or before November 3, 2000.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Lindood A. Watson, Jr.,
Acting Secretary.

[FR Doc. 00-26056 Filed 10-10-00; 8:45 am]

BILLING CODE 6717-01-M